DEPARTMENT OF JUSTICE

Notice of Lodging of Consent Decree Under the Comprehensive Environmental Response, Compensation, and Liability Act (CERCLA)

In accordance with Departmental policy, 28 CFR 50.7, notice is hereby given that on March 11, 2008, a proposed Consent Decree in United States v. City of Jacksonville, Florida, Civil Action No. 308-CV-257 (J-20TEM), was lodged with the United States District Court for the Middle District of Florida, Jacksonville Division.

The Consent Decree represents the settlement of claims brought by the United States pursuant to the Comprehensive Environmental Response, Compensation, and Liability Act (CERCLA). The complaint contained claims seeking injunctive relief and the recovery of costs incurred by the United States in connection with the release and threatened release of hazardous substances from facilities known as the Brown's Dump Site and the Jacksonville Ash Site, which are located within the City of Jacksonville.

For approximately fifty years, the City operated two incinerators and a landfill resulting in widespread contamination in and around Jacksonville. The sites are contaminated with incinerator ash, which contains metals, arsenic, polyaromatic hydrocarbons and dioxin, among other things.

The Jacksonville Ash site (JAS) includes three separate locations of former waste processing and/or disposal facilities operated or used by the City. The JAS consists of two former city incinerators at Forest Street and at 5th and Cleveland Streets, and a former dump site that is now occupied by the Lonnie C. Miller, Sr. Park. All three locations are in the northwest portion of Jacksonville in Duval County, Florida.

The Brown's Dump Site consists of the former Mary McLeod Bethune Elementary School, an electrical substation of the Jacksonville Electric Authority, surrounding single family homes and apartment buildings.

In August 2006, the U.S. Environmental Protection Agency selected cleanup plans for the two sites. The plans require soil excavation at residential properties, schools and parks, and the installation of a two-foot layer of clean soil. Excavated soil will be solidified and stabilized in accordance with federal regulations, as needed, prior to off-site disposal at an appropriate landfill. The plans will provide for various measures to protect human health and the environment. Remediation will also be conducted at streams and creeks, and groundwater will be monitored to ensure protection of public health and the environment. In addition, the Consent Decree requires the City to reimburse the United States for costs incurred in connection with the Sites.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. City of Jacksonville, Florida, D.J. Ref. 90-11-3-08080.

The Consent Decree may be examined at U.S. EPA Region 4, Atlanta Federal Center, 61 Forsyth Street, Atlanta, Georgia 30303. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.25 (for the Consent Decree only and $175.50 for the Consent Decree and all exhibits thereto) (25 cents per page reproduction cost) payable to the U.S. Treasury or, if by e-mail or fax, forward a check in that amount to the Consent Decree Library at the stated address.

Henry S. Friedman,
Assistant Section Chief, Environmental Enforcement Section, Environment and Natural Resources Division.

[FR Doc. E8-5380 Filed 3-17-08; 8:45 am]

BILLING CODE 4410-15-P